DEPARTMENT OF VETERANS AFFAIRS

38 CFR Parts 19 and 20

RIN 2900-AJ72

Appeals Regulations and Rules of Practice—Case Docketing

AGENCY: Department of Veterans Affairs.

ACTION: Final rule.

SUMMARY: The Board of Veterans' Appeals (Board) adjudicates appeals from decisions on claims for veterans' benefits filed with the Department of Veterans Affairs (VA). This document updates the Board's procedures to reflect changes made by section 1003 of the Veterans Programs Enhancement Act of 1998 and to reflect the change in the name of the United States Court of Veterans Appeals to the United States Court of Appeals for Veterans Claims.

DATES:

Effective Date: March 17, 2000.

Applicability Date: November 10, 1998, except for §§ 20.609(i), 20.714(a)(5), 20.717(b), and 20.900(d) which are applicable March 1, 1999.

FOR FURTHER INFORMATION CONTACT: Steven L. Keller, Senior Deputy Vice Chairman, Board of Veterans' Appeals, Department of Veterans Affairs, 810 Vermont Avenue, NW., Washington, DC 20420, 202-565-5978.

SUPPLEMENTARY INFORMATION: Initial decisions on claims for veterans' benefits are made at VA field offices throughout the nation. Claimants may appeal those decisions to the Board. Section 1003 of the Veterans Programs Enhancement Act of 1998, Public Law 105-368, 112 Stat. 3315, 3363-64 (1998), amended 38 U.S.C. 7107 to make these changes in procedures for processing cases before the Board:

(1) Serious illness and severe financial hardship are now included in the statutory grounds for advancing a case on the Board's docket. 38 U.S.C. 7107(a)(2).

(2) A new provision permits postponement of consideration of a case in order to afford an appellant a hearing. 38 U.S.C. 7107(a)(3).

(3) The order in which the Board conducts field hearings in areas served by VA regional offices has been changed from the order in which requests for hearings in each area are received to the docket order of the cases that are scheduled for hearings within the same area. 38 U.S.C. 7107(d)(2).

(4) The statutory grounds in 38 U.S.C. 7107(d)(3) for advancing a hearing within an area served by a regional office now conform to the grounds in 38 U.S.C. 7107(a)(2) for advancing a case on the Board's docket.

This document amends 38 CFR 19.75, 20.704, and 20.900 to conform to these statutory changes.

Section 511 of the same public law, 112 Stat. at 3341, changed the name of the United States Court of Veterans Appeals to the United States Court of Appeals for Veterans Claims. Amendments to 38 CFR 20.609, 20.714, 20.717, and 20.900 change references to the Court to reflect its new name.

VA finds under 5 U.S.C. 553(b)(3)(B) that notice and public procedure are impracticable, unnecessary, and contrary to public interest inasmuch as these amendments merely reflect statutory changes.

Because no notice of proposed rulemaking was required in connection with the adoption of this final rule, no regulatory flexibility analysis is required under the Regulatory Flexibility Act (5 U.S.C. 601-612). Even so, the Secretary hereby certifies that this final rule will not have a significant economic impact on a substantial number of small entities as they are defined in the Regulatory Flexibility Act.

There is no Catalog of Federal Domestic Assistance number for this final rule.

List of Subjects

38 CFR Part 19

Administrative practice and procedure; Claims; Veterans; Authority delegations (government agencies).

38 CFR Part 20

Administrative practice and procedure; Claims; Lawyers; Legal services; Veterans; Authority delegations (government agencies).

Approved: March 10, 2000.
Togo D. West, Jr.,
Secretary of Veterans Affairs.

For the reasons set out in the preamble, 38 CFR parts 19 and 20 are amended as set forth below:

PART 19—BOARD OF VETERANS' APPEALS: APPEALS REGULATIONS

1. The authority citation for part 19 continues to read as follows:

Authority: 38 U.S.C. 501(a), unless otherwise noted.

2. Section 19.75 is revised to read as follows:

§ 19.75 Field hearing docket.

Hearings on appeal held at Department of Veterans Affairs field facilities will be scheduled for each area served by a regional office in accordance with the place of each case on the Board's docket, established under § 20.900 of this chapter, relative to other cases for which hearings are scheduled to be held within that area. Such scheduling is subject to § 20.704(f) of this chapter pertaining to advancement of a case on the hearing docket.

(Authority: 38 U.S.C. 7107)

PART 20—BOARD OF VETERANS' APPEALS: RULES OF PRACTICE

The authority citation for part 20 continues to read as follows:

Authority: 38 U.S.C. 501(a), unless otherwise noted.

4. Section 20.704 is amended by revising the second sentence of paragraph (a); and revising paragraph (f) to read as follows:

§ 20.704 Rule 704. Scheduling and notice of hearings conducted by the Board of Veterans' Appeals at Department of Veterans Affairs field facilities.

(a) General. * * * Subject to paragraph (f) of this section, the hearings will be scheduled in the order specified in § 19.75 of this chapter. * * *

* * * * *

(f) Advancement of the case on the hearing docket. A hearing may be scheduled at a time earlier than would be provided for under § 19.75 of this chapter upon written motion of the appellant or the representative. The same grounds for granting relief, motion filing procedures, and designation of authority to rule on the motion specified in Rule 900(c) (§ 20.900(c) of this part) for advancing a case on the Board's docket shall apply.

(Authority: 38 U.S.C. 7107)

(Approved by the Office of Management and Budget under control number 2900-0085)

5. In § 20.900, paragraphs (b) and (c) are revised; and paragraph (e) is added, to read as follows:

§ 20.900 Rule 900. Order of consideration of appeals.

* * * * *

(b) Appeals considered in docket order. Except as otherwise provided in this Rule, appeals are considered in the order in which they are entered on the docket.

(c) Advancement on the docket. A case may be advanced on the docket on the motion of the Chairman, the Vice Chairman, a party to the case before the Board, or such party's representative. Such a motion may be granted only if the case involves interpretation of law of general application affecting other claims, if the appellant is seriously ill or is under severe financial hardship, or if other sufficient cause is shown. “Other sufficient cause” shall include, but is not limited to, administrative error resulting in a significant delay in docketing the case. Such motions must be in writing and must identify the specific reason(s) why advancement on the docket is sought, the name of the veteran, the name of the appellant if other than the veteran (e.g., a veteran's survivor, a guardian, or a fiduciary appointed to receive VA benefits on an individual's behalf), and the applicable Department of Veterans Affairs file number. The motion must be filed with: Director, Administrative Service (014), Board of Veterans' Appeals, 810 Vermont Avenue, NW., Washington, DC 20420. Where a motion is received prior to the assignment of the case to an individual member or panel of members, the ruling on the motion will be by the Vice Chairman, who may delegate such authority to a Deputy Vice Chairman. If a motion to advance a case on the docket is denied, the appellant and his or her representative will be immediately notified. If the motion to advance a case on the docket is granted, that fact will be noted in the Board's decision when rendered.

* * * * *

(e) Postponement to provide hearing. Any other provision of this Rule notwithstanding, a case may be postponed for later consideration and determination if such postponement is necessary to afford the appellant a hearing.

(Authority: 38 U.S.C. 7107, Pub. Law No. 103-446, § 302)

§ 20.609 [Amended]

6. In § 20.609, paragraph (i) is amended by removing “the Court of Veterans Appeals” from the next to the last sentence and adding, in its place, “the United States Court of Appeals for Veterans Claims”.

§§ 20.714, 207.17, and 20.900 [Amended]

7. Sections 20.714(a)(5), 20.717(b), and 20.900(d) are amended by removing “the United States Court of Veterans Appeals” wherever it appears and, in each such section, adding in its place “the United States Court of Appeals for Veterans Claims”.

[FR Doc. 00-6613 Filed 3-16-00; 8:45 am]

BILLING CODE 83201-01-P